DEPARTMENT OF AGRICULTURE

Animal and Plant Health Inspection Service

9 CFR Part 77

[Docket No. 99-038-4]

Tuberculosis in Cattle, Bison, Goats, and Captive Cervids; State and Zone Designations

AGENCY: Animal and Plant Health Inspection Service, USDA.

ACTION: Proposed rule; reopening and extension of comment period; notice of public hearings.

SUMMARY: We are reopening and extending the comment period for our proposed rule that would amend the bovine tuberculosis regulations to establish new levels of tuberculosis risk classifications to be applied to States and zones within States. The proposed rule would also classify States and zones according to their tuberculosis risk with regard to captive cervids. Additionally, it would amend the regulations to specify that the regulations apply to goats as well as to cattle, bison, and captive cervids, and would increase the amount of testing that must be done before certain cattle, bison, and goats may be moved interstate. This action will allow interested persons additional time to prepare and submit comments. We are also advising the public that we are hosting two public hearings on the proposed rule.

DATES: We invite you to comment on Docket No. 99-038-1. We will consider all comments that we receive by June 16, 2000. We will also consider comments made at public hearings to be held in Albuquerque, NM, on June 14, 2000, from 8 a.m. to noon, and in Lansing, MI, on June 15, 2000, from 6 p.m. to 9 p.m.

ADDRESSES: Please send your comment and three copies to: Docket No. 99-038-1, Regulatory Analysis and Development, PPD, APHIS, Suite 3C03, 4700 River Road, Unit 118, Riverdale, MD 20737-1238.

Please state that your comment refers to Docket No. 99-038-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

The public hearings will be held at the following locations:

(1) Albuquerque, NM: Racing Commission Conference Room, Lower Level, 300 San Mateo Boulevard NE, Albuquerque, NM.

(2) Lansing, MI: The Forum, 1st Floor, Michigan Library and Historical Center, 717 West Allegan Street, Lansing, MI.

FOR FURTHER INFORMATION CONTACT: Dr. Joseph Van Tiem, Senior Staff Veterinarian, VS, APHIS, USDA, 4700 River Road Unit 43, Riverdale, MD 20737-1231; (301) 734-7716.

SUPPLEMENTARY INFORMATION: On March 7, 2000, we published in the Federal Register (65 FR 11912-11940, Docket No. 99-038-1) a proposal to amend the bovine tuberculosis regulations, contained in 9 CFR part 77. We proposed to: (1) Establish several new levels of tuberculosis risk classifications to be applied to States and zones within States; (2) classify States and zones according to their tuberculosis risk with regard to captive cervids; (3) apply the regulations to goats as well as to cattle, bison, and captive cervids; and (4) increase the amount of testing required for the interstate movement of certain cattle, bison, and goats.

Comments on the proposed rule were required to be received on or before April 21, 2000. On March 24, 2000, we published in the Federal Register (65 FR 15877-15878, Docket No. 99-038-2) a correction to Docket No. 99-038-1. Comments on the proposed rule as corrected were required to be received on or before April 21, 2000.

In response to requests from commenters that we extend the comment period on Docket No. 99-038-1, we published a notice in the Federal Register on May 1, 2000 (65 FR 25292, Docket No. 99-038-3), that we were reopening and extending the comment period until May 8, 2000.

During the extended comment period, a number of commenters requested that we further extend the comment period to allow additional time for members of the public to review the proposed rule and to submit comments. In response to these requests, we are reopening and extending the comment period on Docket No. 99-038-1 until June 16, 2000. This action will allow interested persons additional time to prepare and submit comments.

Public Hearings

We are advising the public that we are hosting two public hearings on Docket No. 99-038-1. The first public hearing will be held in Albuquerque, NM, on Wednesday, June 14, 2000, in the Racing Commission Conference Room, Lower Level, 300 San Mateo Boulevard NE. The second public hearing will be held in Lansing, MI, on Thursday, June 15, 2000, at The Forum, 1st Floor, Michigan Library and Historical Center, 717 West Allegan Street.

A representative of the Animal and Plant Health Inspection Service (APHIS) will preside at the public hearings. Any interested persons may appear and be heard in person, by an attorney, or by another representative. Written statements may be submitted and will be made part of the hearing record. Persons who wish to speak at either of the public hearings will be asked to sign in with their name and organization to establish a record for the hearing. We ask that anyone who reads a statement provide two copies to the presiding officer at the hearing.

The public hearing in Albuquerque will begin at 8 a.m and is scheduled to end at noon, local time. The public hearing in Lansing will begin at 6 p.m. and is scheduled to end at 9 p.m., local time. However, the hearings may be terminated at any time if all persons desiring to speak have been heard.

If the number of speakers at a hearing warrants it, the presiding officer may limit the time for each presentation so that everyone wishing to speak has the opportunity.

The purpose of the hearings is to give interested persons an opportunity for oral presentation of data, views, and arguments. Questions about the content of the proposed rule may be part of the commenters' oral presentations. However, neither the presiding officer nor any other representative of APHIS will respond to comments at the hearing, except to clarify or explain provisions of the proposed rule.

Authority: 21 U.S.C. 111, 114, 114a, 115-117, 120, 121, 134b, and 134f; 7 CFR 2.22, 2.80, and 371.2(d).

Done in Washington, DC, this 25th day of May 2000.
Bobby R. Acord,
Acting Administrator, Animal and Plant Health Inspection Service.

[FR Doc. 00-13589 Filed 5-30-00; 8:45 am]

BILLING CODE 3410-34-P